DEPARTMENT OF HOUSING AND URBAN DEVELOPMENT

[Docket No. FR-4557-N-39]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Ms. Barbara Jenkins, Air Force Real Estate Agency (Area-MI), Bolling Air Force Base, 112 Luke Ave., Suite 104, Building 5683, Washington, DC 20332-8020; (202) 767-4184; GSA: Mr. Brian K. Polly, Assistance Commissioner, General Services Administration, Office of Property Disposal, 18th and F Streets, NW, Washington, DC 20405; (202) 501-0052; Energy: Mr. Tom Knox, Department of Energy, Office of Contract & Resource Management, MA-52, Washington, DC 20585; (202) 586-8715; Interior: Ms. Linda Tribby, Department of the Interior, 1849 C Street, NW, Mail Stop 5512-MIB, Washington, DC 20240; (202) 219-0728; Navy: Mr. Charles C. Cocks, Director, Department of the Navy, Real Estate Policy Division, Naval Facilities Engineering Command, Washington Navy Yard, 1322 Patterson Ave., SE, Suite 1000, Washington, DC 20374-5065; (202) 685-9200; (These are not toll-free numbers).

Dated: September 25, 2000.
Fred Karnas, Jr.,
Deputy Assistant Secretary for Special Needs Assistance Programs.

TITLE V, FEDERAL SURPLUS PROPERTY PROGRAM FEDERAL REGISTER REPORT FOR 9/29/00

Suitable/Available Properties

Buildings (by State)

Connecticut

Bldg. 392

Naval Sub Base New London

Groton Co: CT 06349-

Landholding Agency: Navy

Property Number: 77200030065

Status: Unutilized

Comment: 996 sq. ft., needs repair, possible asbestos/lead paint, most recent use—storage, off-site use only

Missouri

Fed. Bldg.

319 Lamine Road

Sedalia Co: Pettis MO 65301-

Landholding Agency: GSA

Property Number: 54200030008

Status: Surplus

Comment: 11,152 sq. ft., historical district, most recent use—office

GSA Number: 7-G-MO-0632

Durwood G. Hall Fed. Bldg.

302 Joplin Street

Joplin Co: Jasper MO 64801-

Landholding Agency: GSA

Property Number: 54200030009

Status: Surplus

Comment: 19,128 sq. ft. historical district, presence of asbestos, most recent use—office

GSA Number: 7-G-MO-0635

New Jersey

Module 4, C63

Princeton Plasma Physics Lab

Princeton Co: Mercer NJ 08540-

Landholding Agency: Energy

Property Number: 41200030002

Stateus: Excess

Comment: modular unit, 693 sq. ft., most recent use—office, off-site use only

Pennsylvania

Bldg. 5

Navy Surface Warfare Center

Philadelphia Co: PA 19112-

Landholding Agency: Navy

Property Number: 77200030071

Status: Unutilized

Comment: 286,824 sq. ft., needs rehab, presence of asbestos, most recent use—warehouse, off-site use only

Bldg. 47

Navy Surface Warfare Center

Philadelphia Co: PA 19112-

Landholding Agency: Navy

Property Number: 77200030072

Status: Unutilized

Comment: 16,343 sq. ft., presence of asbestos, most recent use—office, off-site use only

Bldg. 55

Navy Surface Warfare Center

Philadelphia Co: PA 19112-

Landholding Agency: Navy

Property Number: 77200030073

Status: Unutilized

Comment: 5603 sq. ft., needs repair, presence of asbestos, most recent use—store, off-site use only

Bldg. 531

Navy Surface Warfare Center

Philadelphia Co: PA 19112-

Landholding Agency: Navy

Property Number: 77200030074

Status: Unutilized

Comment: 5102 sq. ft., presence of asbestos, most recent use—office, off-site use only

Bldg. 996

Navy Surface Warfare Center

Philadelphia Co: PA 19112-

Landholding Agency: Navy

Property Number: 77200030075

Status: Unutilized

Comment: 1800 sq. ft., presence of asbestos, most recent use—storage, off-site use only

West Virginia

Former Army Rsv Ctr

201 Kanawha Avenue

Rainelle Co: WV 25962-1107

Landholding Agency: GSA

Property Number: 54200030006

Status: Excess

Comment: Needs repair, possible asbestos/lead paint

GSA Number: 4-D-WV-536

Land (by State)

Pennsylvania

Site 686

Bonneauville Comm Annex

Gettysburg Co: Adams PA 17325-

Landholding Agency: Air Force

Property Number: 18200030017

Status: Excess

Comment: 14 acres, most recent use—ground wave emergency network

Unsuitable Properties

Buildings (by State)

New Jersey

Module 5, C56

Princeton Plasma Physics Lab

Princeton Co: Mercer NJ 08540-

Landholding Agency: Energy

Property Number: 41200030003

Status: Excess

Reason: Extensive deterioration

Pennsylvania

Bldg. 9

Navy Surface Warfare Center

Philadelphia Co: PA 19112-

Landholding Agency: Navy

Property Number: 77200030066

Status: Unutilized

Reason: Extensive deterioration

Bldg. 51

Navy Surface Warfare Center

Philadelphia Co: PA 19112-

Landholding Agency: Navy

Property Number: 77200030067

Status: Unutilized

Reason: Extensive deterioration

Bldg. 52

Navy Surface Warfare Center

Philadelphia Co: PA 19112-

Landholding Agency: Navy

Property Number: 77200030068

Status: Unutilized

Reason: Extensive deterioration

Bldg. 84

Navy Surface Warfare Center

Philadelphia Co: PA 19112-

Landholding Agency: Navy

Property Number: 77200030069

Status: Unutilized

Reason: Extensive deterioration

Bldg. 950

Navy Surface Warfare Center

Philadelphia Co: PA 19112-

Landholding Agency: Navy

Property Number: 77200030070

Status: Unutilized

Reason: Extensive deterioration

Land (by State)

Washington

3.8 acres

West side of Esquatzel Coulee Wasteway

Mesa Co: Franklin WA 99343-

Landholding Agency: Interior

Property Number: 61200030011

Status: Excess

Reason: Landlocked

Wisconsin

0.51 acre

Portion, Fox River Proj.

Kaukauna Co: Outgamie WI 00000-

Landholding Agency: GSA

Property Number: 54200030007

Status: Excess

Reason: Landlocked

GSA Number: 1-D-WI-533-A

[FR Doc. 00-24952 Filed 9-28-00; 8:45 am]

BILLING CODE 4210-29-M